DEPARTMENT OF ENERGY

Federal Energy Regulatory Commission

[Project No. 12686-004]

Baker County Oregon; Notice of Application Tendered for Filing With the Commission and Establishing Procedural Schedule for Licensing and Deadline for Submission of Final Amendments

Take notice that the following hydroelectric application has been filed with the Commission and is available for public inspection.

a. Type of Application: Original Major License.

b. Project No.: 12686-004.

c. Date Filed: April 30, 2013.

d. Applicant: Baker County, Oregon (Baker County).

e. Name of Project: Mason Dam Hydroelectric Project.

f. Location: The proposed project would be located on the Powder River, at the existing U.S. Bureau of Reclamation's (Reclamation) Mason Dam, near Baker City, in Baker County, Oregon. The project would occupy 6.4 acres of federal land managed by Reclamation and the U.S. Forest Service.

g. Filed Pursuant to: Federal Power Act, 16 U.S.C. 791(a)-825(r).

h. Applicant Contact: Fred Warner Jr., Baker County Board of Commissioners Chairman, 1995 Third Street, Baker City, OR 97814, (541) 523-8200.

i. FERC Contact: Kenneth Hogan at Kenneth.Hogan@ferc.gov or (202) 502-8434.

j. This application is not ready for environmental analysis at this time.

k. The Project Description: The proposed project facilities include: (1) A 6-foot diameter, 105-foot-long steel penstock; (2) a 40-foot by 28-foot powerhouse containing a single horizontal shaft Francis turbine with an installed capacity of 3.4 megawatts; (3) an approximately 0.8-mile-long, 12.47-kilovolt (kV) overhead transmission line along Black Mountain Road; (4) a substation at the interconnection point with an existing Idaho Power Company 138-kV transmission line; and (5) appurtenant facilities.

The proposed project's generation would not change the current day-to-day operation of Mason dam but would operate utilizing flood control, irrigation, and instream flow releases from Mason dam and established under existing agreements between the Reclamation, the U.S. Army Corps of Engineers, and/or the Baker Valley Irrigation District. Generation flow discharge would be delivered to the Powder River at the base of Mason dam in the vicinity of the exiting discharge via the project's tailrace.

Baker County estimates that the average annual generation would be about 7,510 megawatt-hours.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target Date
Notice of Acceptance/Notice of Ready for Environmental Analysis | July 1, 2013.
Filing of recommendations, preliminary terms and conditions, and fishway prescriptions | August 28, 2013.
Commission issues Draft EA | February 24, 2014.
Comments on Draft EA | March 26, 2014.
Modified Terms and Conditions | April 25, 2014.
Commission Issues Final EA or EIS | July 24, 2014.

o. Final amendments to the application must be filed with the Commission no later than 30 days from the issuance date of the notice of ready for environmental analysis.

Dated: May 3, 2013.
Kimberly D. Bose,
Secretary.

[FR Doc. 2013-11047 Filed 5-8-13; 8:45 am]

BILLING CODE 6717-01-P